DEPARTMENT OF JUSTICE

Notice of the Availability of the Record of Decision Concerning a Proposal To Award a Contract to House Federal Detainees Within a Contractor-Owned/Contractor-Operated Detention Facility in the Las Vegas, NV, Area

AGENCY: U.S. Department of Justice, Office of the Federal Detention Trustee.

ACTION: Notice of a Record of Decision.

SUMMARY: The U.S. Department of Justice, Office of the Federal Detention Trustee (OFDT) announces the availability of the Record of Decision (ROD) concerning the Final Environmental Impact Statement (EIS) for a proposal to award a contract to house federal detainees within a Contractor-Owned/Contractor-Operated detention facility in the Las Vegas, Nevada, area.

Background Information

Pursuant to section 102, 42 U.S.C. 4332, of the National Environmental Policy Act (NEPA) of 1969, as amended and the Council of Environmental Quality Regulations (40 CFR Parts 1500-1508), the OFDT, together with the U.S. Marshals Service (USMS), prepared Draft and Final EISs concerning a proposal to award a contract to house federal detainees within a Contractor-Owned/Contractor-Operated detention facility in the Las Vegas, Nevada, area.

Project Information

During the past two decades, the federal detainee population has experienced unprecedented growth as a result of expanded federal law enforcement initiatives and resources. During this time, the federal detainee population has increased by over 1,000 percent from approximately 3,000 in 1981 to 55,000 to 60,000 today with continued growth in the federal detainee population expected for the foreseeable future. These prisoners are housed in a combination of local, state, federal and private facilities around the country. The growth in the detainee population is occurring at the same time that available bedspace in local jails is decreasing. Local jail space is increasingly needed to house local offenders, leaving less space available for the contractual accommodation of federal detainees. These trends are expected to continue and present a major challenge for those federal agencies responsible for detaining prisoners.

Housing the growing number of federal detainees within the Las Vegas, Nevada, area is considered to be an especially important priority. The high level of federal law enforcement activity in the western United States in general and the Las Vegas metropolitan area in particular requires more beds than are readily available in local or state facilities. Compounding the challenge faced by the USMS is the need for detention facilities to be located near federal courthouses so as to allow the USMS to transport detainees accused of violating federal laws for court appearances. In response to this need, the OFDT, with the support and assistance of the USMS, is seeking to contract for a Contractor-Owned/Contractor-Operated facility to house detained individuals charged with federal offenses and while awaiting trial or sentencing.

In 2007, in response to the need, the OFDT solicited proposals from contractors interested in housing individuals charged with federal offenses and while awaiting trial or sentencing. At that time, preparation of a Draft EIS to analyze the potential environmental consequences of such an action was also undertaken. A Draft EIS was subsequently published on December 23, 2007 which assessed the environmental consequences associated with housing approximately 1,000 to 1,500 federal detainees within a Contractor-Owned/Contractor-Operated detention facility in the Las Vegas, Nevada, area. Implementation of the proposed action would allow federal detainees to be housed at a facility located in proximity to the United States Courthouse in Las Vegas while meeting the need for expanded bedspace capacity. Alternative actions have been evaluated, including the No Action alternative, as stipulated by the National Environmental Policy Act of 1969, as amended.

Five prospective detention contractors initially offered 11 alternative sites in Nevada and Arizona for development of a Contractor-Owned/Contractor-Operated detention facility with several of the alternative sites offered by more than one contractor. Ten of the 11 sites were found to be located within a 75-mile radius of the United States Courthouse in downtown Las Vegas, Nevada. The 75-mile radius was among several minimum solicitation requirements and, hence, one of the 11 sites, located near the City of Kingman in Mohave County, Arizona, was eliminated from further consideration. Prior to preparation of the Draft EIS, six of the 10 alternative sites located within the 75-mile radius were subsequently withdrawn from further consideration by the prospective contractors. Four sites (the 630 East Parque Avenue Site, the 2250 East Mesquite Avenue Site, the Apex Industrial Use Zone Site A, and the Moapa Site) were determined to be alternatives worthy of consideration and were evaluated in the Draft EIS. Following publication of the Draft EIS, the Apex Industrial Use Zone Site A was also withdrawn from further consideration to house federal detainees, leaving three prospective contractors and three alternative sites.

The agency preferred alternative is to contract for provision of a Contractor-Owned/Contractor-Operated detention facility to house approximately 1,000 to 1,500 federal detainees at the 2250 East Mesquite Avenue Site located in Pahrump, Nevada. Implementation of the proposed action to award a contract to house federal detainees is expected to result in less-than-significant impacts to the project site and the community surrounding the selected site. Beneficial impacts would be derived from the proposed action, including contributions toward protecting society and achieving the goals of the U.S. Department of Justice.

A Draft EIS was issued on December 23, 2007, coinciding with publication of the Notice of Availability (NOA) in the Federal Register (72 FR 72707). The NOA provided for a 45-day public comment period which began on December 23, 2007, and ended on February 4, 2008. Along with publication in the Federal Register, written notice of the availability of the Draft EIS was also published in four local and regional newspapers (in English and Spanish) and over 200 copies of the document were distributed to federal, state and local government agencies, elected officials, public libraries, interested organizations, and individuals. Public hearings concerning the proposed action and the Draft EIS were held during the public comment period on January 16, 2008, in Moapa, Nevada, and January 17, 2008, in Pahrump, Nevada, with approximately 60 individuals attending the two hearings.

The Final EIS addressed comments received on the Draft EIS and publication of the NOA in the Federal Register concerning the Final EIS occurred on March 28, 2008 (73 FR 16672). The 30-day review period for receipt of public comments concerning the Final EIS ended on April 28, 2008. Less than 60 comment letters were received during the Final EIS public review period. The comment letters received on the Final EIS are similar to comments received concerning the Draft EIS and were considered in the decision presented in the ROD.

Availability of the Record of Decision

The ROD and other information regarding this project are available upon request by contacting: Scott P. Stermer, Assistant Federal Detention Trustee, Office of the Federal Detention Trustee, 4601 North Fairfax Drive, 9th Floor, Arlington, Virginia 22203; or Tel: 202-353-4601/Fax: 202-353-4611/E-mail: Scott.Stermer2@doj.gov.

FOR FURTHER INFORMATION CONTACT: Scott P. Stermer, Assistant Federal Detention Trustee.

Dated: May 13, 2008.
Scott P. Stermer,
Assistant Federal Detention Trustee, Office of the Federal Detention Trustee.

[FR Doc. E8-11291 Filed 5-21-08; 8:45 am]

BILLING CODE 4410-HM-P